DEPARTMENT OF TRANSPORTATION

Federal Aviation Administration

Proposed Advisory Circular 20-XX, Methodology for Dynamic Seat Certification by Analysis for Use in Parts 23, 25, 27, and 29 Airplanes and Rotorcraft

AGENCY: Federal Aviation Administration (FAA), DOT.

ACTION: Notice of availability of proposed advisory circular (AC) and request for comments.

SUMMARY: This notice announces the availability of and requests comments on a proposed AC, which provides information and guidance concerning demonstrating compliance to computer modeling analysis techniques validated by dynamic tests. This notice is necessary to give all interested persons an opportunity to present their views on the proposed AC.

DATES: Comments must be received on or before January 21, 2003.

ADDRESSES: Send all comments on the proposed AC to: Mr. Pat Mullen, Federal Aviation Administration, Small Airplane Directorate, Aircraft Certification Service, Standards Office (ACE-110), 901 Locust, Room 301, Kansas City, Missouri 64106.

FOR FURTHER INFORMATION CONTACT: Mr. Pat Mullen, telephone (816) 329-4128 or fax (816) 329-4090.

SUPPLEMENTARY INFORMATION:

Comments Invited

Interested persons are invited to comment on the proposed AC by submitting such written data, views, or arguments as they may desire. Commenters should identify AC 20-XX and submit comments, in duplicate, to the address specified above. All communications received on or before the closing date for comments will be considered by the Small Airplane Directorate before issuing the final AC. The proposed AC can be found and downloaded from the Internet at http://www.airweb.faa.gov/DraftAC by taking the following steps: Under “Search Help” click on “Open for Comment.” A paper copy of the proposed AC may be obtained by contacting the person named above under the caption FOR FURTHER INFORMATION CONTACT.

Discussion

The subject advisory circular describes how to demonstrate compliance to the following by computer modeling analysis techniques validated by dynamic tests:

• Title 14 Code of Federal Regulations (14 CFR) parts 23, 25, 27, and 29, §§ 23.562, 25.562, 27.562, and 29.562.

• The Technical Standard Order (TSO) associated with the above regulations, TSO-C127/C127a.

The AC provides guidance on how to validate the computer model and under what conditions the model may be used in support of certification or TSO approval/authorization. Material in the AC is neither mandatory nor regulatory in nature and does not constitute a regulation. In addition, the material is not to be construed as having any legal status and should be treated accordingly.

Issued in Kansas City, Missouri on November 8, 2002.
Michael Gallagher,
Manager, Small Airplane Directorate, Aircraft Certification Service.

[FR Doc. 02-29446 Filed 11-19-02; 8:45 am]

BILLING CODE 4910-13-P